DEPARTMENT OF COMMERCE

International Trade Administration

Request for Applicants for the Appointment to the United States-India CEO Forum

AGENCY: International Trade Administration, Department of Commerce.

ACTION: Notice.

SUMMARY: This notice announces membership opportunities for the appointment of two additional U.S. representatives to the existing U.S. Section of the U.S.-India CEO Forum. The U.S. Department of Commerce is seeking applicants from the aerospace/defense and healthcare sectors. On April 20, 2018, the Department of Commerce published through a Federal Register Notice a “Request for Applicants for the Appointment to the United States-India CEO Forum” (FR Doc. 2018-07236), which announced membership opportunities for the appointment of up to 20 representatives to the U.S. Section of the Forum, and the Secretary of Commerce subsequently appointed 19 members to the U.S. Section for a two-year term beginning on October 11, 2018. With an additional two appointments, the U.S. Section will have up to 21 members. The newly recruited members will serve for the remainder of the original two-year term.

DATES: Applications should be received by no later than August 2, 2019.

ADDRESSES: Please send requests for consideration to Noor Sclafani at the Office of South Asia, U.S. Department of Commerce, either by email at noor.sclafani@trade.gov or by mail to U.S. Department of Commerce, 1401 Constitution Avenue NW, Room 2037, Washington, DC 20230.

FOR FURTHER INFORMATION, CONTACT: Noor Sclafani, International Trade Specialist, Office of South Asia, U.S. Department of Commerce, telephone: (202) 482-1421.

SUPPLEMENTARY INFORMATION: Established in 2005, the U.S.-India CEO Forum brings together leaders of the respective business communities of the United States and India to discuss issues of mutual interest, particularly ways to strengthen the economic and commercial ties between the two countries, and to communicate their joint recommendations to the U.S. and Indian governments.

The Forum has U.S. and Indian private and public sector co-chairs. The Secretary of Commerce serves as the U.S. Government chair. The Forum includes U.S. and Indian private sector members, who are divided into two sections. Upon the recruitment of two additional members, the U.S. Section will consist of up to 21 members representing the views and interests of the private sector business community in the United States. Each government appoints the members of its respective Section. The Secretary of Commerce appoints the U.S. Section and the U.S. Section's private sector co-chair. The Forum allows private sector members to develop and provide recommendations to the two governments and their senior officials that reflect private sector views, needs, concerns, and suggestions about the creation of an environment in which their respective private sectors can partner, thrive, and enhance bilateral commercial ties to expand trade and economic links between the United States and India. The Forum works in tandem with, and provides input to, the government-to-government U.S.-India Commercial Dialogue.

The Department of Commerce is seeking U.S. industry candidates for membership in the aerospace/defense and healthcare sectors. Each candidate must be the Chief Executive Officer or President (or have a comparable level of responsibility) of a U.S.-owned or controlled company that is incorporated in and has its main headquarters located in the United States and is currently conducting business in both countries. A candidate must be a U.S. citizen or otherwise legally authorized to work in the United States and must be able to travel to India and locations in the United States to attend Forum meetings as well as U.S. Section meetings. The candidate may not be a registered foreign agent under the Foreign Agents Registration Act of 1938, as amended. Applications for membership in the U.S. Section by eligible individuals will be evaluated based on the following criteria:

• A demonstrated commitment by the individual's company to the Indian market either through exports or investment.

• A demonstrated strong interest in India and its economic development.

• The ability to offer a broad perspective and business experience to the discussions.

• The ability to address cross-cutting issues that affect the entire business community.

• The ability to initiate and be responsible for activities in which the Forum will be active.

• If applicable, prior participation by the applicant in the U.S. Section of the Forum.

The evaluation of applications for membership in the U.S. Section will be undertaken by a committee of staff from multiple U.S. Government agencies. The U.S. Section of the Forum includes members who represent a diversity of business sectors and geographic locations. The addition of representatives from the aerospace/defense and healthcare sectors will increase the commercial diversity of the U.S. Section. To the extent possible, the U.S. Section should include members from small, medium, and large firms.

U.S. Section members will receive no compensation for their participation in Forum-related activities. Individual members will be responsible for all travel and related expenses associated with their participation, including attendance at Forum and Section meetings. Only appointed members may participate in official Forum meetings; substitutes and alternates may not participate. U.S. Section members serve for two-year terms but may be reappointed.

To be considered for membership in the U.S. Section, please submit the following information as instructed in the ADDRESSES and DATES captions above: Name and title of the individual requesting consideration; name and address of company's headquarters; location of incorporation; size of the company; size of company's export trade, investment, and nature of operations or interest in India; and a brief statement describing the candidate's qualifications that should be considered, including information about the candidate's ability to initiate and be responsible for activities in which the Forum will be active. Candidates that have previously been members of the U.S. Section need only provide a letter expressing their interest in re-applying and indicating any changes to the application materials previously supplied. All candidates will be notified once selections have been made.

Dated: June 24, 2019.
Valerie Dees,
Director of the Office of South Asia.

[FR Doc. 2019-13737 Filed 6-26-19; 8:45 am]

BILLING CODE 3510-FP-P